FEDERAL COMMUNICATIONS COMMISSION

[OMB 3060-1186]

Information Collection Being Reviewed by the Federal Communications Commission

AGENCY: Federal Communications Commission.

ACTION: Notice and request for comments.

SUMMARY: As part of its continuing effort to reduce paperwork burdens, and as required by the Paperwork Reduction Act (PRA) of 1995, the Federal Communications Commission (FCC or the Commission) invites the general public and other Federal agencies to take this opportunity to comment on the following information collection. Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees. The FCC may not conduct or sponsor a collection of information unless it displays a currently valid control number. No person shall be subject to any penalty for failing to comply with a collection of information subject to the PRA that does not display a valid Office of Management and Budget (OMB) control number.

DATES: Written PRA comments should be submitted on or before December 15, 2017. If you anticipate that you will be submitting comments, but find it difficult to do so within the period of time allowed by this notice, you should advise the contact listed below as soon as possible.

ADDRESSES: Direct all PRA comments to Nicole Ongele, FCC, via email PRA@fcc.gov and to Nicole.Ongele@fcc.gov.

FOR FURTHER INFORMATION CONTACT: For additional information about the information collection, contact Nicole Ongele at (202) 418-2991.

SUPPLEMENTARY INFORMATION: As part of its continuing effort to reduce paperwork burdens, and as required by the Paperwork Reduction Act (PRA) of 1995 (44 U.S.C. 3501-3520), the Federal Communications Commission (FCC or Commission) invites the general public and other Federal agencies to take this opportunity to comment on the following information collections. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

OMB Control Number: 3060-1186.

Title: Rural Call Completion Recordkeeping and Reporting Requirements, WC Docket No. 13-39.

Form Number: FCC Form 480.

Type of Review: Extension of a currently approved collection.

Respondents: Business or other for-profit.

Number of Respondents and Responses: 60 respondents; 280 responses.

Estimated Time per Response: 26 hours per quarter (on average).

Frequency of Response: Quarterly reporting requirement and recordkeeping requirement.

Obligation to Respond: Required to obtain or retain benefits. Statutory authority for this information collection is contained in sections 201, 202, 217, 218, 220(a), and 403 of the Communications Act of 1934, as amended.

Total Annual Burden: 6,240 hours.

Total Annual Cost: $550,000.

Privacy Act Impact Assessment: No impact(s).

Nature and Extent of Confidentiality: The Commission is not requesting respondents to submit confidential information. Any respondent that submits information to the Commission that they believe is confidential may request confidential treatment of such information under 47 CFR 0.459 of the Commission's rules.

Needs and Uses: The recordkeeping and reporting requirements as adopted apply to long-distance service providers and other covered providers that make the initial long-distance call path choice for more than 100,000 retail long-distance subscribers lines. Based on the Commission's experience to date with these rules, we estimate approximately 60 wireline, wireless, and wholesale providers will be required to file an electronic report with the FCC. We note that the number of providers this estimate replaces, 225, was also an approximation.

The Commission believes that rural call completion is a continuing problem and that continued Commission focus on the issue is warranted. Given the approaching deadline to renew OMB approval for this information collection, and the fact that the rules underlying this information collection are still in effect and will remain so while Commission action on this matter is pending, we request an extension of the current approval. We expect that the Commission's proposals to modify these rules will be resolved within the time frame of the extension, at which point the Commission would seek any necessary modification to the current collection.

Federal Communications Commission.
Marlene H. Dortch,
Secretary, Office of the Secretary.

[FR Doc. 2017-22340 Filed 10-13-17; 8:45 am]

BILLING CODE 6712-01-P